SECURITIES AND EXCHANGE COMMISSION

[OMB Control No. 3235-0278]

Agency Information Collection Activities; Proposed Collection; Comment Request; Extension: Rule 204-2

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (“SEC” or “Commission”) is soliciting comments on the collection of information summarized below. The Commission plans to submit this existing collection of information to the Office of Management and Budget (“OMB”) for extension and approval.

The title for the collection of information is “Rule 204-2” (17 CFR 275.204-2) under the Investment Advisers Act of 1940 (15 U.S.C. 80b-4). Rule 204-2 sets forth the requirements for maintaining and preserving specified books and records. The collection of information under rule 204-2 is necessary for the Commission staff to use in its examination and oversight program. This collection of information is mandatory. Responses provided to the Commission in the context of its examination and oversight program are generally kept confidential. The respondents to the collection of information are investment advisers registered with the Commission. The records that an adviser must keep in accordance with rule 204-2 must generally be retained for not less than five years.

The respondents to the collection of information are investment advisers registered with the Commission. The Commission has estimated that compliance with the requirements of the rule imposes a total burden of approximately 184.9298 hours for an adviser. As of December 31, 2024, there were 15,906 SEC registered advisers. Based on this figure, the Commission staff estimates a total annual burden of 2,941,493.4 hours.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by February 17, 2026. There will be a second opportunity to comment on this SEC request following the Federal Register publishing a 30-Day Submission Notice.

Dated: December 12, 2025.
Sherry R. Haywood,
Assistant Secretary.

[FR Doc. 2025-22947 Filed 12-15-25; 8:45 am]

BILLING CODE 8011-01-P